DEPARTMENT OF STATE

[Public Notice 11046]

Designation of One Iranian Entity and One Iranian Individual Pursuant to Executive Order 13382

ACTION: Notice of Designation.

SUMMARY: Pursuant to the authority in Section 1(a)(ii) of Executive Order 13382, “Blocking Property of Weapons of Mass Destruction Proliferators and Their Supporters,” the State Department, in consultation with the Secretary of the Treasury and the Attorney General, has determined that the Atomic Energy Organization of Iran (AEOI) and the head of AEOI, Ali Akbar Salehi, engaged, or attempted to engage, in activities or transactions that have materially contributed to, or pose a risk of materially contributing to, the proliferation of weapons of mass destruction by Iran, through activities that are contrary to Iran's JCPOA commitment that Iran will not engage in activities that could contribute to the development of a nuclear explosive device.

DATES: The Secretary of State designated AEOI and the head of AEOI, Ali Akbar Salehi, pursuant to Executive Order 13382 on January 30, 2020.

FOR FURTHER INFORMATION CONTACT: Harry Thompson, Office of Counterproliferation Initiatives, Bureau of International Security and Nonproliferation, Department of State, Washington, DC 20520, tel.: 202-736-7065.

SUPPLEMENTARY INFORMATION: On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

As a result of this action, all property and interests in property of AEOI and Ali Akbar Salehi that are in the United States, or that hereafter come within the United States or that are or hereafter come within the possession or control of United States persons are blocked and may not be transferred, paid, exported, withdrawn, or otherwise dealt in. Information on the designees:

Entity: Atomic Energy Organization of Iran.

AKA: AEOI.

Address: North Kargar Street, P.O. Box 14155-1339, Tehran, Iran.

Website: http://www.aeoi.orgjr.

Individual: Ali Akbar Salehi.

Date of Birth: March 25, 1949.

Place of Birth: Karbala.

Gender: Male.

Nationality: IRAN.

Country: IRAN.

Gonzalo O. Suarez,
Acting Deputy Assistant Secretary, International Security and Nonproliferation, Department of State.

[FR Doc. 2020-04490 Filed 3-4-20; 8:45 am]

BILLING CODE 4710-27-P